SMALL BUSINESS ADMINISTRATION

[Disaster Declaration #20753 and #20754; GEORGIA Disaster Number GA-20014]

Presidential Declaration Amendment of a Major Disaster for Public Assistance Only for the State of Georgia

AGENCY: U.S. Small Business Administration.

ACTION: Amendment 4.

SUMMARY: This is an amendment of the Presidential declaration of a major disaster for Public Assistance Only for the State of Georgia (FEMA-4830-DR), dated October 9, 2024.

Incident: Hurricane Helene.

DATES: Issued on October 21, 2024.

Incident Period: September 24, 2024, and continuing.

Physical Loan Application Deadline Date: December 9, 2024.

Economic Injury (EIDL) Loan Application Deadline Date: July 9, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Georgia, dated October 9, 2024, is hereby amended to include the following areas as adversely affected by the disaster.

Primary Counties: Banks, Bleckley, Butts, Clinch, Dawson, Decatur, Echols, Elbert, Franklin, Gilmer, Greene, Habersham, Hancock, Hart, Jackson, Jasper, Lamar, Lanier, Lincoln, Lumpkin, Madison, Morgan, Oglethorpe, Pike, Putnam, Rabun, Stephens, Treutlen, Washington, White, Wilkes.

All other information in the original declaration remains unchanged.

(Catalog of Federal Domestic Assistance Number 59008)

Rafaela Monchek,
Deputy Associate Administrator, Office of Disaster Recovery & Resilience.

[FR Doc. 2024-25062 Filed 10-28-24; 8:45 am]

BILLING CODE 8026-09-P